DEPARTMENT OF THE TREASURY

Customs Service

Distribution of Continued Dumping and Subsidy Offset to Affected Domestic Producers

AGENCY: U.S. Customs Service, Department of the Treasury.

ACTION: Notice of intent to distribute offset.

SUMMARY: Pursuant to the Continued Dumping and Subsidy Offset Act of 2000, this document is Customs notice of intention to distribute assessed antidumping or countervailing duties that were collected in Fiscal Year 2001 in connection with antidumping duty orders or findings or countervailing duty orders. The document gives further notice of the proposed instructions for affected domestic producers to file written certifications to claim a distribution (known as a continued dumping and subsidy offset), which Customs originally published in a Notice of Proposed Rulemaking in the Federal Register (66 FR 33920) on June 26, 2001. The document also sets forth the list of individual antidumping duty orders or findings and countervailing duty orders, together with the affected domestic producers associated with each order or finding who are potentially eligible to receive a continued dumping and subsidy offset.

DATES: Written certifications to obtain a continued dumping and subsidy offset under a particular order or finding must be received by the later of October 2, 2001, or 10 days after the effective date of the final rule document that will be published in the Federal Register in relation to the proposed rule that was published at 66 FR 33920 on June 26, 2001. Notice announcing this specific alternative date for the receipt of certifications will be published in the Federal Register.

ADDRESSES: Written certifications should be addressed to: Assistant Commissioner, Office of Regulations and Rulings, U.S. Customs Service, 1300 Pennsylvania Avenue, NW., 3rd Floor, Washington, D.C. 20229 (ATTN: Jeffrey J. Laxague).

FOR FURTHER INFORMATION CONTACT: Jeffrey J. Laxague, Office of Regulations and Rulings, (202-927-0505).

SUPPLEMENTARY INFORMATION:

Background

The Continued Dumping and Subsidy Offset Act of 2000 (“ACDSOA”) was enacted on October 28, 2000, as part of the Agriculture, Rural Development, Food and Drug Administration, and Related Agencies Appropriations Act, 2001 (“Act”). The provisions of the CDSOA are contained in Title X (sections 1001-1003) of the Act.

The CDSOA, in section 1003 of the Act, amended Title VII of the Tariff Act of 1930, by adding a new section 754 (codified at 19 U.S.C. 1675c) in order to provide that assessed duties received pursuant to a countervailing duty order, an antidumping duty order, or an antidumping duty finding under the Antidumping Act of 1921, must be distributed to affected domestic producers for certain qualifying expenditures that these producers incur after the issuance of such an order or finding. The term “affected domestic producer” means any manufacturer, producer, farmer, rancher or worker representative (including associations of such persons) that—

(A) Was a petitioner or interested party in support of a petition with respect to which an antidumping order, a finding under the Antidumping Act of 1921, or a countervailing duty order has been entered, and

(B) Remains in operation.

The distribution that these parties may receive is known as the continued dumping and subsidy offset.

Customs published a Notice of Proposed Rulemaking in the Federal Register (66 FR 33920) on June 26, 2001, to implement the provisions of the CDSOA. Today's Federal Register notice, required by 19 U.S.C. 1675c(d)(2), is being issued before a final rule is adopted to provide sufficient opportunity for affected domestic producers to gather the information that might be needed to submit claims to receive distributions.

List of Orders or Findings and Affected Domestic Producers

It is the responsibility of the U.S. International Trade Commission (USITC) to ascertain and timely forward to Customs a list of the affected domestic producers that are potentially eligible to receive an offset in connection with an order or finding.

To this end, it is noted that the USITC has supplied Customs with the list of individual antidumping and countervailing duty cases, and the affected domestic producers associated with each case that are potentially eligible to receive an offset. This list appears at the end of this document.

Notice of Intent To Distribute Offset

As required by 19 U.S.C. 1675c(d)(2), this document announces Customs intention to distribute to affected domestic producers the assessed antidumping or countervailing duties that were received in Fiscal Year 2001 in connection with the antidumping duty orders or findings or countervailing duty orders that are listed in this document.

To obtain a distribution of the offset under a given order or finding, an affected domestic producer must submit a certification to Customs, indicating that the producer desires to receive a distribution. The specific instructions for filing a certification to claim a distribution, which Customs has proposed for public comment, are explained below.

Certifications; Submission and Content

To obtain a distribution of the offset under a given order or finding, each affected domestic producer must timely submit a certification, in triplicate, to the Assistant Commissioner, Office of Regulations and Rulings, Headquarters, containing the required information as to the eligibility of the producer to receive the requested distribution and the total amount of the distribution that the producer is claiming.

In this latter regard, it is noted that in the proposal to implement the CDSOA that Customs published, Customs particularly requested comments as to whether the name of the certifying producer and the total amount being certified for distribution should be considered information available for disclosure to the public. Domestic producers concerned about the possible public disclosure of this information may wish to withhold submission of their certifications until a final rule document is published and becomes effective in this matter.

It is also noted that in the proposed rulemaking to implement the CDSOA that Customs published, Customs did not prescribe specific procedures that a successor company must follow in order to file certifications on behalf of a listed company. Customs also did not prescribe specific procedures that an association must follow in order to file certifications on behalf of its member companies. Customs expects to set forth procedures for successor companies and associations in the final rule. Accordingly, successor companies and associations may wish to withhold submission of their certifications until a final rule document is published and becomes effective in this matter.

As successor companies as well as affected domestic producers who are concerned with the confidentiality of the information they submit to Customs may wish to wait for Customs decisions in the final rule before submitting certifications, Customs is providing a flexible due date for when certifications must be received.

Certifications to obtain a distribution of an offset must be received by the later of October 2, 2001, or 10 days after the effective date of the final rule document that will be published in the Federal Register in relation to the proposed rule that was published at 66 FR 33920 on June 26, 2001. Notice announcing this specific alternative date for the receipt of certifications will be published in the Federal Register. Customs anticipates that the subject final rule document will be issued in September 2001.

The certification must contain the following information:

1. The date of this Federal Register notice;

2. The Commerce case number;

3. The case name;

4. The name of the domestic producer;

5. Their address;

6. Their IRS number;

7. Their business type;

8. A contact person;

9. The total dollar amount claimed;

10. The dollar amount claimed by category, as described in the section entitled “Amount Claimed for Distribution''

11. A statement of eligibility, as described in the section entitled “Eligibility to Receive Distribution'';

12. A signature by a corporate officer.

The following provides additional information on meeting these requirements.

Identifying Information for Domestic Producer

The certification must include the following identifying information related to the domestic producer:

(1) The name of the domestic producer and any name qualifier, if applicable (for example, any other name under which the domestic producer does business or is also known);

(2) The address of the domestic producer (if a post office box, the secondary street address must also be included);

(3) The Internal Revenue Service (IRS) number (with suffix) of the domestic producer, employer identification number, or social security number, as applicable;

(4) The specific business organization of the domestic producer (corporation, partnership, sole proprietorship); and

(5) The name(s) of any individual(s) designated by the domestic producer as the contact person(s) concerning the certification, together with the phone number(s) and/or facsimile transmission number(s) and electronic mail (email) address(es) for the person(s).

Amount Claimed for Distribution

In calculating the amount of the distribution being claimed as an offset, the certification must enumerate the total amount of qualifying expenditures currently certified by the domestic producer, and the amount certified by category.

Qualifying expenditures which may be offset by a distribution of assessed antidumping and countervailing duties encompass those expenditures that are incurred after the issuance of an antidumping duty order or finding or a countervailing duty order, provided that such expenditures fall within any of the following categories: (1) Manufacturing facilities; (2) Equipment; (3) Research and development; (4) Personnel training; (5) Acquisition of technology; (6) Health care benefits for employees paid for by the employer; (7) Pension benefits for employees paid for by the employer; (8) Environmental equipment, training, or technology; (9) Acquisition of raw materials and other inputs; and (10) Working capital or other funds needed to maintain production.

Eligibility To Receive Distribution

As noted, the certification must contain a statement that the domestic producer desires to receive a distribution and is eligible to receive the distribution as an affected domestic producer. Further, the domestic producer must affirm that the net amount certified for distribution does not encompass any qualifying expenditures for which distribution has previously been made.

Moreover, as required by 19 U.S.C. 1675c(b)(1), the statement must include information as to whether the domestic producer remains in operation and continues to produce the product covered by the particular order or finding under which the distribution is sought. If a domestic producer is no longer in operation, or no longer produces the product covered by the order or finding, the producer would not be considered an affected domestic producer entitled to receive a distribution. In addition, as required by 19 U.S.C. 1675c(b)(5), the domestic producer must state whether it has been acquired by a company or business that is related to a company that opposed the antidumping or countervailing duty investigation that resulted in the order or finding under which the distribution is sought. If a domestic producer has been so acquired, the producer would again not be considered an affected domestic producer entitled to receive a distribution.

The certification must be executed and dated by a party legally authorized to bind the domestic producer and state that the information contained in the certification is true and accurate to the best of the certifier's knowledge and belief under penalty of law.

Review and Correction of Certification

A certification that is submitted in response to this notice of distribution may be reviewed before acceptance to ensure that all informational requirements are complied with and that any amounts set forth in the certification for current and prior qualifying expenditures, including the amount claimed for distribution, appear to be correct. A certification that is found to be incorrect or incomplete will be returned to the domestic producer. It is the sole responsibility of the domestic producer to ensure that the certification is correct, complete and satisfactory so as to demonstrate the entitlement of the domestic producer to the distribution requested. Failure to ensure that the certification is correct, complete and satisfactory will result in the domestic producer not receiving a distribution.

Verification of Certification

Customs reserves the right to determine whether certifications will be verified through audit or otherwise. Because certifications may be subject to verification, parties are required to maintain records supporting their claims for a period of three years after the filing of the certification.

List of Orders or Findings and Related Domestic Producers

The list of individual antidumping duty orders or findings and countervailing duty orders, together with the affected domestic producers associated with each order or finding that are potentially eligible to receive an offset, is as follows:

Commerce No. | Commission case No. | Case name | Petitioners/supporters
A-588-028 | AA1921-111 | Roller chain/Japan | American Chain Association.
A-401-040 | AA1921-114 | Stainless steel plate/Sweden | Jessop Steel.
A-588-041 | AA1921-115 | Synthetic methionine/Japan | Monsanto.
A-588-046 | AA1921-129 | Polychloroprene rubber/Japan | E.I. du Pont de Nemours.
A-122-047 | AA1921-127 | Elemental sulphur/Canada | Duval.
A-588-056 | AA1921-162 | Melamine/Japan | Melamine Chemical.
A-475-059 | AA1921-167 | Pressure-sensitive plastic tape/Italy | Minnesota Mining & Manufacturing
A-588-068 | AA1921-188 | Prestressed concrete steel wire strand/Japan | American Spring Wire, Armco Steel, Bethlehem Steel, CF&I Steel, Florida Wire & Cable.
|  |  | No petition at the Commission; Commerce service list identifies: U.S. Beet Sugar Association, Florida Sugar Marketing and Terminal Association, American Sugar Cane League, American Sugarbeet Growers Association, Florida Sugar Cane League, Rio Grande Valley Sugar Growers Association, Michigan Sugar, Amstar Sugar.
C-408-046 | 104-TAA-7 | Sugar/EU | Sugar Cane Growers Cooperative of Florida, Alexander & Baldwin, Michigan Farm Bureau, H&R Brokerage, Talisman Sugar, American Farm Bureau Federation, Leach Farms, A.J. Yates, Hawaiian Agricultural Research Center, United States Beet Sugar Association, United States Cane Sugar Refiners' Association.
A-423-077 | AA1921-198 | Sugar/Belgium | Florida Sugar Marketing and Terminal Association.
A-427-078 | AA1921-199 | Sugar/France | Florida Sugar Marketing and Terminal Association.
A-428-082 | AA1921-200 | Sugar/Germany | Florida Sugar Marketing and Terminal Association.
A-122-085 | 731-TA-3 | Sugar and syrups/Canada | Amstar Sugar.
A-427-098 | 731-TA-25 | Anhydrous sodium metasilicate/ France | PQ.
A-427-001 | 731-TA-44 | Sorbitol/France | Lonza Pfizer.
A-570-007 | 731-TA-149 | Barium chloride/China | Chemical Products.
A-570-101 | 731-TA-101 | Greige polyester cotton printcloth/China | Alice Manufacturing, Clinton Mills, Dan River, Greenwood Mills, Hamrick Mills, M. Lowenstein, Mayfair Mills, Mount Vernon Mills.
C-357-004 | 701-TA-A | Carbon steel wire rod/Argentina | Atlantic Steel, Continental Steel, Georgetown Steel, North Star Steel, Raritan River Steel.
A-357-007 | 731-TA-157 | Carbon steel wire rod/Argentina | Atlantic Steel, Continental Steel, Georgetown Steel, North Star Steel, Raritan River Steel.
A-469-007 | 731-TA-126 | Potassium permanganate/Spain | Carus Chemical
A-570-001 | 731-TA-125 | Potassium permanganate/China | Carus Chemical
A-570-002 | 731-TA-130 | Chloropicrin/China | LCP Chemicals & Plastics Niklor Chemical.
C-533-063 | 303-TA-13 | Iron metal castings/India | Campbell Foundry, Le Baron Foundry, Municipal Castings, Neenah Foundry, Pinkerton Foundry, U.S. Foundry & Manufacturing, Vulcan Foundry.
A-122-503 | 731-TA-263 | Iron construction castings/Canada | Alhambra Foundry, Allegheny Foundry, Bingham & Taylor, Campbell Foundry, Charlotte Pipe & Foundry, Deeter Foundry, East Jordan Foundry, Le Baron Foundry, Municipal Castings, Neenah Foundry, Opelika Foundry, Pinkerton Foundry, Tyler Pipe, U.S. Foundry & Manufacturing, Vulcan Foundry.
A-351-503 | 731-TA-262 | Iron construction castings/Brazil | Alhambra Foundry, Allegheny Foundry, Bingham & Taylor, Campbell Foundry, Charlotte Pipe & Foundry, Deeter Foundry, East Jordan Foundry, Le Baron Foundry, Municipal Castings, Neenah Foundry, Opelika Foundry, Pinkerton Foundry, Tyler Pipe, U.S. Foundry & Manufacturing, Vulcan Foundry.
A-570-502 | 731-TA-265 | Iron construction casting/China | Alhambra Foundry, Allegheny Foundry, Bingham & Taylor, Campbell Foundry, Charlotte Pipe & Foundry, Deeter Foundry, East Jordan Foundry, Le Baron Foundry, Municipal Castings, Neenah Foundry, Opelika Foundry, Pinkerton Foundry, Tyler Pipe, U.S. Foundry & Manufacturing, Vulcan Foundry.
C-351-504 | 701-TA-249 | Heavy iron construction castings/Brazil | Alhambra Foundry, Allegheny Foundry, Bingham & Taylor, Campbell Foundry, Charlotte Pipe & Foundry, Deeter Foundry, East Jordan Foundry, Le Baron Foundry, Municipal Castings, Neenah Foundry, Opelika Foundry, Pinkerton Foundry, Tyler Pipe, U.S. Foundry & Manufacturing, Vulcan Foundry.
A-351-605 | 731-TA-326 | Frozen concentrated orange juice/Brazil | Florida Citrus Mutual.
A-570-825 | 731-TA-653 | Sebacic acid/China | Union Camp.
C-122-404 | 701-TA-224 | Live swine/Canada | National Pork Producers Council, Wilson Foods.
A-357-405 | 731-TA-208 | Barbed wire and barbless wire strand/Argentina | CF&I Steel, Davis Walker, Forbes Steel & Wire, Oklahoma Steel Wire.
A-570-501 | 731-TA-244 | Natural bristle paint brushes/China | Baltimore Brush, Bestt Liebco, Elder & Jenks, EZ Paintr, H&G Industries, Joseph Lieberman & Sons, Purdy, Rubberset, Thomas Paint Applicators, Wooster Brush.
A-570-003 | 731-TA-103 | Cotton shop towels/China | Milliken, Texel Industries, Wikit.
C-535-001 | 701-TA-202 | Cotton shop towels/Pakistan | Milliken.
C-333-401 | 701-TA-E | Cotton shop towels/Peru | No case at the Commission; Commerce service list identifies: Durafab, Kleen-Tex Industries, Pavis & Harcourt, Lewis Eckert Robb, Milliken.
A-538-802 | 731-TA-514 | Cotton shop towels/Bangladesh | Milliken.
A-570-504 | 731-TA-282 | Petroleum wax candles/China | National Candle Association.
A-588-045 | AA1921-124 | Steel wire rope/Japan | AMSTED Industries.
A-201-806 | 731-TA-547 | Carbon steel wire rope/Mexico | Bridon American, Macwhyte, Paulsen Wire Rope, The Rochester Corporation, Williamsport, Wire-rope Works, Wire Rope Corporation of America, United Automobile, Aerospace and Agricultural Implement Workers (Local 960).
A-580-811 | 731-TA-546 | Carbon steel wire rope/Korea | Bridon American, Macwhyte, Paulsen Wire Rope, The Rochester Corporation, Williamsport, Wire-rope Works, Wire Rope Corporation of America, United Automobile, Aerospace and Agricultural Implement Workers (Local 960).
A-351-505 | 731-TA-278 | Malleable cast iron pipe fittings/Brazil | Stanley G. Flagg, Grinnell, Stockham Valves & Fittings, U-Brand, Ward Manufacturing.
A-580-507 | 731-TA-279 | Malleable cast iron pipe fittings/Korea | Stanley G. Flagg, Grinnell, Stockham Valves & Fittings, U-Brand, Ward Manufacturing
A-583-507 | 731-TA-280 | Malleable cast iron pipe fittings/Taiwan | Stanley G. Flagg, Grinnell, Stockham Valves & Fittings, U-Brand, Ward Manufacturing.
A-588-605 | 731-TA-347 | Malleable cast iron pipe fittings/Japan | Stanley G. Flagg, Grinnell, Stockham Valves & Fittings, U-Brand, Ward Manufacturing.
A-549-601 | 731-TA-348 | Malleable cast iron pipe fittings/Thailand | Stanley G. Flagg, Grinnell, Stockham Valves & Fittings, U-Brand, Ward Manufacturing.
A-570-506 | 731-TA-298 | Porcelain-on-steel cooking ware/China | General Housewares.
A-201-504 | 731-TA-297 | Porcelain-on-steel cooking ware/Mexico | General Housewares.
A-583-508 | 731-TA-299 | Porcelain-on-steel cooking ware/Taiwan | General Housewares.
C-201-505 | 701-TA-265 | Porcelain-on-steel cooking ware/Mexico | General Housewares.
A-580-601 | 731-TA-304 | Top-of-the-stove stainless steel cooking ware/Korea | Farberware, Regal Ware, Revere Copper & Brass, WearEver/Proctor Silex.
C-580-602 | 701-TA-267 | Top-of-the-stove stainless steel cooking ware/Korea | Farberware, Regal Ware, Revere Cooper & Brass, WearEver/Proctor Silex.
A-583-603 | 731-TA-305 | Top-of-the-stove stainless stell cooking ware/Taiwan | Farberware, Regal Ware, Revere Cooper & Brass, WearEver/Proctor Silex.
C-583-604 | 701-TA-268 | Top-of-the-stove stainless steel cooking ware/Taiwan | Farberware, Regal Ware, Revere Copper & Brass, WearEver/Proctor Silex.
C-351-604 | 701-TA-269 | Brass sheet and strip/Brazil | American Brass, Bridgeport Brass, Chase Brass & Copper, Hussey Copper, The Miller Company, Olin, Revere Copper Products, Allied Industrial Workers of America, International Association of Machinists & Aerospace Workers, Mechanics Educational Society of America (Local 56), United Steelworkers of America.
A-351-603 | 731-TA-311 | Brass sheet and strip/Brazil | American Brass, Bridgeport Brass, Chase Brass & Copper, Hussey Copper, The Miller Company, Olin, Revere Copper Products, Allied Industrial Workers of America, International Association of Machinists & Aerospace Workers, Mechanics Educational Society of America (Local 56), United Steelworkers of America.
A-122-601 | 731-TA-312 | Brass sheet and strip/Canada | American Brass, Bridgeport Brass, Chase Brass & Copper, Hussey Copper, The Miller Company, Olin, Revere Copper Products, Allied Industrial Workers of America, International Association of Machinists & Aerospace Workers, Mechanics Educational Society of America (Local 56), United Steelworkers of America.
A-580-603 | 731-TA-315 | Brass sheet and strip/Korea | American Brass, Bridgeport Brass, Chase Brass & Copper, Hussey Copper, The Miller Company, Olin, Revere Copper Products, Allied Industrial Workers of America, International Association of Machinists & Aerospace Workers, Mechanics Educational Society of America (Local 56), United Steelworkers of America.
A-427-602 | 731-TA-313 | Brass sheet and strip/France | American Brass, Bridgeport Brass, Chase Brass & Copper, Hussey Copper, The Miller Company, Olin, Revere Copper Products, Allied Industrial Workers of America, International Association of Machinists & Aerospace Workers, Mechanics Educational Society of America (Local 56), United Steelworkers of America.
C-427-603 | 701-TA-270 | Brass sheet and strip/France | American Brass, Bridgeport Brass, Chase Brass & Copper, Hussey Copper, The Miller Company, Olin, Revere Copper Products, Allied Industrial Workers of America, International Association of Machinists & Aerospace Workers, Mechanics Educational Society of America (Local 56), United Steelworkers of America.
A-428-602 | 731-TA-317 | Brass sheet and strip/Germany | American Brass, Bridgeport Brass, Chase Brass & Copper, Hussey Copper, The Miller Company, Olin, Revere Copper Products, Allied Industrial Workers of America, International Association of Machinists & Aerospace Workers, Mechanics Educational Society of America (Local 56), United Steelworkers of America.
A-475-601 | 731-TA-314 | Brass sheet and strip/Italy | American Brass, Bridgeport Brass, Chase Brass & Copper, Hussey Copper, The Miller Company, Olin, Revere Copper Products, Allied Industrial Workers of America, International Association of Machinists & Aerospace Workers, Mechanics Educational Society of America (Local 56), United Steelworkers of America.
A-401-601 | 731-TA-316 | Brass sheet and strip/Sweden | American Brass, Bridgeport Brass, Chase Brass & Copper, Hussey Copper, The Miller Company, Olin, Revere Copper Products, Allied Industrial Workers of America, International Association of Machinists & Aerospace Workers, Mechanics Educational Society of America (Local 56), United Steelworkers of America.
A-588-704 | 731-TA-379 | Brass sheet and strip/Japan | American Brass, Bridgeport Brass, Chase Brass & Copper, Hussey Copper, The Miller Company, North Coast Brass & Copper, Olin, Pegg Metals, Revere Copper Products, Allied Industrial Workers of America, International Association of Machinists & Aerospace Workers, Mechanics Educational Society of America (Local 56), United Steelworkers of America.
A-421-701 | 731-TA-380 | Brass sheet and strip/Netherlands | American Brass, Bridgeport Brass, Chase Brass & Copper, Hussey Copper, The Miller Company, North Coast Brass & Copper, Olin, Pegg Metals, Revere Copper Products, Allied Industrial Workers of America, International Association of Machinists & Aerospace Workers, Mechanics Educational Society of America (Local 56), United Steelworkers of America.
A-831-801 | 731-TA-340-A | Solid urea/Armenia | Agrico Chemical, American Cyanamid, CF Industries, First Mississippi, Mississippi Chemical, Terra International, W.R. Grace.
A-822-801 | 731-TA-340-B | Solid urea/Belarus | Agrico Chemical, American Cyanamid, CF Industries, First Mississippi, Mississippi Chemical, Terra International, W.R. Grace.
A-447-801 | 731-TA-340-C | Solid urea/Estonia | Agrico Chemical, American Cyanamid, CF Industries, First Mississippi, Mississippi Chemical, Terra International, W.R. Grace.
A-451-801 | 731-TA-340-D | Solid urea/Lithuania | Agrico Chemical, American Cyanamid, CF Industries, First Mississippi, Mississippi Chemical, Terra International, W.R. Grace.
A-485-601 | 731-TA-339 | Solid urea/Romania | Agrico Chemical, American Cyanamid, CF Industries, First Mississippi, Mississippi Chemical, Terra International, W.R. Grace.
A-821-801 | 731-TA-340-E | Solid urea/Russia | Agrico Chemical, American Cyanamid, CF Industries, First Mississippi, Mississippi Chemical, Terra International, W.R. Grace.
A-842-801 | 731-TA-340-F | Solid urea/Tajikistan | Agrico Chemical, American Cyanamid, CF Industries, First Mississippi, Mississippi Chemical, Terra International, W.R. Grace.
A-843-801 | 731-TA-340-G | Solid urea/Turkmenistan | Agrico Chemical, American Cyanamid, CF Industries, First Mississippi, Mississippi Chemical, Terra International, W.R. Grace.
A-823-801 | 731-TA-340-H | Solid urea/Ukraine | Agrico Chemical, American Cyanamid, CF Industries, First Mississippi, Mississippi Chemical, Terra International, W.R. Grace.
A-844-801 | 731-TA-340-I | Solid urea/Uzbekistan | Agrico Chemical, American Cyanamid, CF Industries, First Mississippi, Mississippi Chemical, Terra International, W.R. Grace.
C-508-605 | 701-TA-286 | Industrial phosphoric acid/Israel | Albright & Wilson, FMC, Hydrite Chemical, Monsanto, Stauffer Chemical.
A-423-602 | 731-TA-365 | Industrial phosphoric acid/Belgium | Albright & Wilson, FMC, Hydrite Chemical, Monsanto, Stauffer Chemical.
A-489-602 | 731-TA-364 | Aspirin/Turkey | Dow Chemical, Monsanto, Norwich-Eaton.
A-122-605 | 731-TA-367 | Color picture tubes/Canada | Philips Electronic Components Group, Zenith Electronics, Industrial Union Department, AFL-CIO, International Association of Machinists & Aerospace Workers, International Brotherhood of Electrical Workers, International Union of Electronic, Electrical, Technical, Salaried and Machine Workers, United Steelworkers of America.
A-588-609 | 731-TA-368 | Color picture tubes/Japan | Philips Electronic Components Group, Zenith Electronics, Industrial Union Department, AFL-CIO, International Association of Machinists & Aerospace Workers, International Brotherhood of Electrical Workers, International Union of Electronic, Electrical, Technical, Salaried and Machine Workers, United Steelworkers of America.
A-580-605 | 731-TA-369 | Color picture tubes/Korea | Philips Electronic Components Group, Zenith Electronics, Industrial Union Department, AFL-CIO, International Association of Machinists & Aerospace Workers, International Brotherhood of Electrical Workers, International Union of Electronic, Electrical, Technical, Salaried and Machine Workers, United Steelworkers of America.
A-559-601 | 731-TA-370 | Color picture tubes/Singapore | Philips Electronic Components Group, Zenith Electronics, Industrial Union Department, AFL-CIO, International Association of Machinists & Aerospace Workers, International Brotherhood of Electrical Workers, International Union of Electronic, Electrical, Technical, Salaried and Machine Workers, United Steelworkers of America.
|  |  | No companies identified as petitioners at the Commission; Commerce service list identifies: Mitsubishi, Nissan Motor, Yamaha Motors, NSK, Hoover-NSK Bearing, ITOCHU International, Toyota Motor Sales, Timken, Nippon Seiko, Kawasaki Heavy Duty Industries.
A-588-054 | AA1921-143 | Tapered roller bearings 4 inches and under/Japan | Komatsu America, Nachi Western, Ford Motor, Federal Mogul, Itocho, Kanematsu-Goshu USA, Nissan Motor USA, Nachi America, Motorambar, Honda, General Motors, Sumitomo, Koyo Seiko, American Honda Motor, Subaru of America, Suzuki Motor.
A-570-601 | 731-TA-344 | Tapered roller bearings/China | Timken, Torrington.
A-437-601 | 731-TA-341 | Tapered roller bearings/Hungary | Timken, Torrington.
A-485-602 | 731-TA-345 | Tapered roller bearings/Romania | Timken, Torrington.
A-588-604 | 731-TA-343 | Tapered roller bearings over 4 inches/Japan | Timken, Torrington.
A-427-801 | 731-TA-392-A | Ball bearings/France | MPB, Torrington.
A-427-801 | 731-TA-392-B | Cylindrical roller bearings/France | MPB, Torrington.
A-427-801 | 731-TA-392-C | Spherical plain bearings/France | Torrington.
A-428-801 | 731-TA-391-A | Ballbearings/Germany | MPB, Torrington.
A-428-801 | 731-TA-391-B | Cylindrical roller bearings/Germany | MPB, Torrington.
A-428-801 | 731-TA-391-C | Spherical plain bearings/Germany | Torrington.
A-475-801 | 731-TA-393-A | Ball bearings/Italy | MPB, Torrington.
A-475-801 | 731-TA-393-B | Cylindrical roller bearings/Italy | MPB, Torrington.
A-588-804 | 731-TA-394-A | Ball bearings/Japan | MPB, Torrington.
A-588-804 | 731-TA-394-B | Cylindrical roller bearings/Japan | MPB, Torrington.
A-588-804 | 731-TA-394-C | Spherical plain bearings/Japan | Torrington.
A-485-801 | 731-TA-395 | Ball bearings/Romania | MPB, Torrington.
A-559-801 | 731-TA-396 | Ball bearings/Singapore | MPB, Torrington.
A-401-801 | 731-TA-397-A | Ball bearings/Sweden | MPB, Torrington.
A-401-801 | 731-TA-397-B | Cylindrical roller bearings/Sweden | MPB, Torrington.
A-412-801 | 731-TA-399-A | Ball Bearings/United Kingdom | MPB, Torrington.
A-412-801 | 731-TA-399-B | Cylindrical roller bearings/United Kingdom | MPB, Torrington.
A-588-703 | 731-TA-377 | Internal combustion industrial forklift trucks/Japan | Hyster, Ad-Hoc Group of Workers from Hyster's Berea, Kentucky and Sulligent, Alabama Facilities, Allied Industrial Workers of America, Independent Lift Truck Builders Union, International Association of Machinists & Aerospace Workers, United Shop & Service Employees.
A-588-706 | 731-TA-384 | Nitrile rubber/Japan | Uniroyal Chemical.
A-583-008 | 731-TA-132 | Small diameter carbon steel pipe and tube/Taiwan | Allied Tube & Conduit, American Tube, Bull Moose Tube, Copperweld Tubing, J&L Steel, Kaiser Steel, Merchant Metals, Pittsburgh Tube, Southwestern Pipe, Western Tube & Conduit.
C-489-502 | 701-TA-253 | Welded carbon steel pipe and tube/Turkey | Allied Tube & Conduit, American Tube, Bernard Epps, Bock Industries, Bull Moose Tube, Central Steel Tube, Century Tube, Copperweld Tubing, Cyclops, Hughes Steel & Tube, Kaiser Steel, Laclede Steel, Maruichi American, Maverick Tube, Merchant Metals, Phoenix Steel, Pittsburgh Tube, Quanex, Sharon Tube, Southwestern Pipe, UNR-Leavitt, Welded Tube, Western Tube & Conduit, Wheatland Tube.
A-549-502 | 731-TA-252 | Welded carbon steel pipe and tube/Thailand | Allied Tube & Conduit, American Tube, Bernard Epps, Bock Industries, Bull Moose Tube, Central Steel Tube, Century Tube, Copperweld Tubing, Cyclops, Hughes Steel & Tube, Kaiser Steel, Laclede Steel, Maruichi American, Maverick Tube, Merchant Metals, Phoenix Steel, Pittsburgh Tube, Quanex, Sharon Tube, Southwestern Pipe, UNR-Leavitt, Welded Tube, Western Tube & Conduit, Wheatland Tube.
A-533-502 | 731-TA-271 | Welded carbon steel pipe and tube/India | Allied Tube & Conduit, American Tube, Bernard Epps, Bock Industries, Bull Moose Tube, Central Steel Tube, Century Tube, Copperweld Tubing, Cyclops, Hughes Steel & Tube, Kaiser Steel, Laclede Steel, Maruichi American, Maverick Tube, Merchant Metals, Phoenix Steel, Pittsburgh Tube, Quanex, Sharon Tube, Southwestern Pipe, UNR-Leavitt, Welded Tube, Western Tube & Conduit, Wheatland Tube.
A-489-501 | 731-TA-273 | Welded carbon steel pipe and tube/Turkey | Allied Tube & Conduit, American Tube, Bernard Epps, Bock Industries, Bull Moose Tube, Central Steel Tube, Century Tube, Copperweld Tubing, Cyclops, Hughes Steel & Tube, Kaiser Steel, Laclede Steel, Maruichi American, Maverick Tube, Merchant Metals, Phoenix Steel, Pittsburgh Tube, Quanex, Sharon Tube, Southwestern Pipe, UNR-Leavitt, Welded Tube, Western Tube & Conduit, Wheatland Tube.
A-122-506 | 731-TA-276 | Oil country tubular goods/Canada | CF&I Steel, Copperweld Tubing, Cyclops, KPC, Lone Star Steel, LTV Steel, Maverick Tube, Quanex, U.S. Steel.
A-583-505 | 731-TA-277 | Oil country tubular goods/Taiwan | CF&I Steel, Copperweld Tubing, Cyclops, KPC, Lone Star Steel, LTV Steel, Maverick Tube, Quanex, U.S. Steel.
A-559-502 | 731-TA-296 | Small diameter standard and rectangular pipe and tube/Singapore | Allied Tube & Conduit, American Tube, Bull Moose Tube, Cyclops, Hannibal Industries, Laclede Steel, Pittsburgh Tube, Sharon Tube, Western Tube & Conduit, Wheatland Tube.
A-583-803 | 731-TA-410 | Light-walled rectangular tube/Taiwan | Bull Moose Tube, Hannibal Industries, Harris Tube, Maruichi American, Searing Industries, Southwestern Pipe, Western Tube & Conduit.
,A-357-802 | 731-TA-409 | Light-walled rectangular tube/Argentina | Bull Moose Tube, Hannibal Industries, Harris Tube, Maruichi American, Searing Industries, Southwestern Pipe, Western Tube & Conduit.
A-351-809 | 731-TA-532 | Circular welded nonalloy steel pipe/Brazil | Allied Tube & Conduit, American Tube, Bull Moose Tube, Century Tube, CSI Tubular Products, Cyclops, Laclede Steel, LTV Tubular Products, Maruichi American, Sharon Tube, Western Tube & Conduit, Wheatland Tube.
A-580-809 | 731-TA-533 | Circular welded nonalloy steel pipe/Korea | Allied Tube & Conduit, American Tube, Bull Moose Tube, Century Tube, CSI Tubular Products, Cyclops, Laclede Steel, LTV Tubular Products, Maruichi American, Sharon Tube, Western Tube & Conduit, Wheatland Tube.
A-201-805 | 731-TA-534 | Circular welded nonalloy steel pipe/Mexico | Allied Tube & Conduit, American Tube, Bull Moose Tube, Century Tube, CSI Tubular Products, Cyclops, Laclede Steel, LTV Tubular Products, Maruichi American, Sharon Tube, Western Tube & Conduit, Wheatland Tube.
A-583-814 | 731-TA-536 | Circular welded nonalloy steel pipe/Taiwan | Allied Tube & Conduit, American Tube, Bull Moose Tube, Century Tube, CSI Tubular Products, Cyclops, Laclede Steel, LTV Tubular Products, Maruichi American, Sharon Tube, Western Tube & Conduit, Wheatland Tube.
A-307-805 | 731-TA-537 | Circular welded nonalloy steel pipe/Venezuela | Allied Tube & Conduit, American Tube, Bull Moose Tube, Century Tube, CSI Tubular Products, Cyclops, Laclede Steel, LTV Tubular Products, Maruichi American, Sharon Tube, Western Tube & Conduit, Wheatland Tube.
A-588-707 | 731-TA-386 | Granular polytetrafluoroethylene/Japan | E.I. du Pont de Nemours, ICI Americas.
A-475-703 | 731-TA-385 | Granular polytetrafluoroethylene/Italy | E.I. du Pont de Nemours, ICI Americas.
A-351-602 | 731-TA-308 | Carbon steel butt-weld pipe fittings/Brazil | Ladish, Mills Iron Works, Steel Forgings, Weldbend.
A-583-605 | 731-TA-310 | Carbon steel butt-weld pipe fittings/Taiwan | Ladish, Mills Iron Works, Steel Forgings, Weldbend.
A-588-602 | 731-TA-309 | Carbon steel butt-weld pipe fittings/Japan | Ladish, Mills Iron Works, Steel Forgings, Weldbend.
A-570-814 | 731-TA-520 | Carbon steel butt-weld pipe fittings/China | Hackney, Ladish, Mills Iron Works, Steel Forgings, Tube Forgings of America.
A-549-807 | 731-TA-521 | Carbon steel butt-weld pipe fittings/Thailand | Hackney, Ladish, Mills Iron Works, Steel Forgings,Tube Forgings of America.
A-484-801 | 731-TA-406 | Electrolytic manganese dioxide/Greece | Chemetals, Kerr-McGee, Rayovac.
A-588-806 | 731-TA-408 | Electrolytic manganese dioxide/Japan | Chemetals, Kerr-McGee, Rayovac.
A-428-802 | 731-TA-419 | Industrial belts/Germany | The Gates Rubber Company, The Goodyear Tire and Rubber Company.
A-475-802 | 731-TA-413 | Industrial belts/Italy | The Gates Rubber Company, The Goodyear Tire and Rubber Company.
A-588-807 | 731-TA-414 | Industrial belts/Japan | The Gates Rubber Company, The Goodyear Tire and Rubber Company.
A-559-802 | 731-TA-415 | Industrial belts/Singapore | The Gates Rubber Company, The Goodyear Tire and Rubber, Company.
A-427-009 | 731-TA-96 | Industrial nitrocellulose/France | Hercules.
A-351-804 | 731-TA-439 | Industrial nitrocellulose/Brazil | Hercules.
A-570-802 | 731-TA-441 | Industrial nitrocellulose/China | Hercules.
A-428-803 | 731-TA-444 | Industrial nitrocellulose/Germany | Hercules.
A-588-812 | 731-TA-440 | Industrial nitrocellulose/Japan | Hercules.
A-580-805 | 731-TA-442 | Industrial nitrocellulose/Korea | Hercules.
A-412-803 | 731-TA-443 | Industrial nitrocellulose/United Kingdom | Hercules.
A-479-801 | 731-TA-445 | Industrial nitrocellulose/Yugoslavia | Hercules.
A-122-804 | 731-TA-422 | Steel rails/Canada | Bethlehem Steel, CF&I Steel.
C-122-805 | 701-TA-297 | Steel rails/Canada | Bethlehem Steel, CF&I Steel.
A-588-811 | 731-TA-432 | Drafting machines/Japan | Vemco.
A-588-810 | 731-TA-429 | Mechanical transfer presses/Japan | Allied Products, United Autoworkers of America, United Steelworkers of America.
A-570-803 | 731-TA-457-A | Axes and adzes/China | Woodings-Verona.
A-570-803 | 731-TA-457--B | Bars and wedges/China | Woodings-Verona.
A-570-803 | 731-TA-457-C | Hammers and sledges/China | Woodings-Verona.
A-570-803 | 731-TA-457-D | Picks and mattocks/China | Woodings-Verona.
A-570-805 | 731-TA-466 | Sodium thiosulfate/China | Calabrian.
A-428-807 | 731-TA-465 | Sodium thiosulfate/Germany | Calabrian.
A-412-805 | 731-TA-468 | Sodium thiosulfate/United Kingdom | Calabrian.
C-469-004 | 701-TA-178 | Stainless steel wire rod/Spain | AL Tech Specialty Steel, Armco Steel, Carpenter Technology, Colt Industries, Cyclops, Guterl Special Steel, Joslyn Stainless Steels, Republic Steel.
A-533-808 | 731-TA-638 | Stainless steel wire rod/India | AL Tech Specialty Steel, Armco Steel, Carpenter Technology, Republic Engineered Steels, Talley Metals Technology, United Steelworkers of America.
A-351-819 | 731-TA-636 | Stainless steel wire rod/Brazil | AL Tech Specialty Steel, Armco Steel, Carpenter Technology, Republic Engineered Steels, Talley Metals Technology, United Steelworkers of America.
A-427-811 | 731-TA-637 | Stainless steel wire rod/France | AL Tech Specialty Steel, Armco Steel, Carpenter Technology, Republic Engineered Steels, Talley Metals Technology, United Steelworkers of America.
A-580-810 | 731-TA-540 | Welded ASTM A-312 stainless steel pipe/Korea | Avesta Sandvik Tube, Bristol Metals, Crucible Materials, Damascus Tubular Products, United Steelworkers of America.
A-583-815 | 731-TA-541 | Welded ASTM A-312 stainless steel pipe/Taiwan | Avesta Sandvik Tube, Bristol Metals, Crucible Materials, Damascus Tubular Products, United Steelworkers of America.
A-403-801 | 731-TA-454 | Fresh and chilled Atlantic salmon/Norway | The Coalition for Fair Atlantic Salmon Trade.
C-403-802 | 701-TA-302 | Fresh and chilled Atlantic salmon/Norway | The Coalition for Fair Atlantic Salmon Trade.
A-580-807 | 731-TA-459 | Polyethylene terephthalate film/Korea | E.I. du Pont de Nemours, Hoechst Celanese, ICI Americas.
A-570-804 | 731-TA-464 | Sparklers/China | B.J. Alan, Diamond Sparkler, Elkton Sparkler.
A-588-702 | 731-TA-376 | Stainless steel butt-weld pipe fittings/Japan | Flowline.
A-580-813 | 731-TA-563 | Stainless steel butt-weld pipe fittings/Korea | Markovitz Enterprises.
A-583-816 | 731-TA-564 | Stainless steel butt-weld pipe fittings/Taiwan | Markovitz Enterprises.
A-201-802 | 731-TA-451 | Gray portland cement and clinker/Mexico | Alamo Cement, Blue Circle, BoxCrow Cement, Calaveras Cement, Capitol Aggregates, Florida Crushed Stone, Gifford-Hill, Hanson Permanente Cement, Ideal Basic Industries, National Cement Company of Alabama, National Cement Company of California, Phoenix Cement, Southdown, Tarmac America, Texas Industries, Independent Workers of North America (Locals 49, 52, 89, 192, and 471), International Union of Operating Engineers (Local 12).
A-588-815 | 731-TA-461 | Gray portland cement and clinker/Japan | Hanson Permanente Cement, National Cement Company of California, Southdown, Independent Workers of North, America (Locals 49, 52, 89, 192, and 471), International Union of Operating Engineers (Local 12).
A-307-803 | 731-TA-519 | Gray portland cement and clinker/Venezuela | Florida Crushed Stone, Southdown, Tarmac America.
C-307-804 | 303-TA-21 | Gray portland cement and clinker/Venezuela | Florida Crushed Stone, Southdown, Tarmac America.
A-588-817 | 731-TA-469 | Electroluminescent flat-panel displays/Japan | The Cherry Corporation, Electro Plasma, Magnascreen, OIS Optical Imaging Systems, Photonics Technology, Planar Systems, Plasmaco.
A-570-808 | 731-TA-474 | Chrome-plated lug nuts/China | Consolidated International Automotive, Key Manufacturing, McGard.
A-583-810 | 731-TA-475 | Chrome-plated lug nuts/Taiwan | Consolidated International Automotive, Key Manufacturing McGard.
A-122-814 | 731-TA-528 | Pure magnesium/Canada | Magnesium Corporation of America.
C-122-815 | 701-TA-309-A | Alloy magnesium/Canada | Magnesium Corporation of America.
C-122-815 | 701-TA-309-B | Pure magnesium/Canada | Magnesium Corporation of America.
A-557-805 | 731-TA-527 | Extruded rubber thread/Malaysia | Globe Manufacturing, North American Rubber Thread.
A-843-802 | 731-TA-539 | Uranium/Kazakhstan | Ferret Exploration, First Holding, Geomex Minerals, IMC Fertilizer, Malapai Resources, Pathfinder Mines, Power Resources, Rio Algom Mining, Solution Mining, Total Minerals, Umetco Minerals, Uranium Resources, Oil, Chemical and Atomic Workers.
A-821-802 | 731-TA-539-C | Uranium/Russia | Ferret Exploration, First Holding, Geomex Minerals, IMC Fertilizer, Malapai Resources, Pathfinder Mines, Power Resources, Rio Algom Mining, Solution Mining, Total Minerals, Umetco Minerals, Uranium Resources, Oil, Chemical and Atomic Workers
A-844-802 | 731-TA-539-F | Uranium/Uzbekistan | Ferret Exploration, First Holding, Geomex Minerals, IMC Fertilizer, Malapai Resources, Pathfinder Mines, Power Resources, Rio Algom Mining, Solution Mining, Total Minerals, Umetco Minerals, Uranium Resources, Oil, Chemical and Atomic Workers.
A-823-802 | 731-TA-539-E | Uranium/Ukraine | Ferret Exploration, First Holding, Geomex Minerals, IMC Fertilizer, Malapai Resources, Pathfinder Mines, Power Resources, Rio Algom Mining, Solution Mining, Total Minerals, Umetco Minerals, Uranium Resources, Oil, Chemical and Atomic, Workers.
A-583-080 | AA1921-197 | Carbon steel plate/Taiwan | No petition (self-initiated by Treasury); Commerce, service list, identifies: U.S. Steel, China Steel, Bethlehem Steel.
C-423-806 | 701-TA-319 | Cut-to-length carbon steel plate/Belgium | Bethlehem Steel, California Steel Industries, Geneva Steel, Gulf States Steel, Inland Steel Industries, Lukens Steel, Nextech, Sharon Steel, Theis Precision Steel, Thompson Steel, U.S. Steel, United Steelworkers of America.
C-351-818 | 701-TA-320 | Cut-to-length carbon stell plate/Brazil | Bethlehem Steel, California Steel Industries, Geneva Steel, Gulf States Steel, Inland Steel Industries, Lukens Steel, Nextech, Sharon Steel, Theis Precision Steel, Thompson Steel, U.S. Steel, United Steelworkers of America.
C-428-817 | 701-TA-322 | Cut-to-length carbon steel plate/Germany | Bethlehem Steel, California Steel Industries, Geneva Steel, Gulf States Steel, Inland Steel Industries, Lukens Steel, Nextech, Sharon Steel, Theis Precision Steel, Thompson Steel, U.S. Steel, United Steelworkers of America.
C-201-810 | 701-TA-325 | Cut-to-length carbon steel plate/Mexico | Bethlehem Steel, California Steel Industries, Geneva Steel, Gulf States Steel, Inland Steel Industries, Lukens Steel, Nextech, Sharon Steel, Theis Precision Steel, Thompson Steel, U.S. Steel, United Steelworkers of America.
C-469-804 | 701-TA-326 | Cut-to-length carbon steel plate/Spain | Bethlehem Steel, California Steel Industries, Geneva Steel, Gulf States Steel, Inland Steel Industries, Lukens Steel, Nextech, Sharon Steel, Theis Precision Steel, Thompson Steel, U.S. Steel, United Steelworkers of America.
C-401-804 | 701-TA-327 | Cut-to-length carbon steel plate/Sweden | Bethlehem Steel, California Steel Industries, Geneva Steel, Gulf States Steel, Inland Steel Industries, Lukens Steel, Nextech, Sharon Steel, Theis Precision, Steel, Thompson Steel, U.S. Steel, United Steelworkers of America.
C-412-815 | 701-TA-328 | Cut-to-length carbon steel plate/United Kingdom | Bethlehem Steel, California Steel Industries, Geneva Steel, Gulf States Steel, Inland Steel Industries, Lukens Steel, Nextech, Sharon Steel, Theis Precision Steel, Thompson Steel, U.S. Steel, United Steelworkers of America.
A-423-805 | 731-TA-573 | Cut-to-length carbon steel plate/Belgium | Bethlehem Steel, California Steel Industries, Geneva Steel, Gulf States Steel, Inland Steel Industries, Lukens Steel, Nextech, Sharon Steel, Theis Precision Steel, Thompson Steel, U.S. Steel, United Steelworkers of America.
A-351-817 | 731-TA-574 | Cut-to-length carbon steel plate/Brazil | Bethelehem Steel, California Steel Industries, Geneva Steel, Gulf States, Steel, Inland Steel Industries, Lukens Steel, Nextech, Sharon Steel, Theis Precision Steel, Thompson Steel, U.S. Steel, United Steelworkers of America.
A-122-823 | 731-TA-575 | Cut-to-length carbon steel /Canada plate | Bethlehem Steel, California Steel Industries, Geneva Steel, Gulf States Steel, Inland Steel Industries, Lukens Steel, Nextech, Sharon Steel, Theis Precision Steel, Thompson Steel, U.S. Steel, United Steelworkers of America.
A-405-802 | 731-TA-576 | Cut-to-length carbon steel plate/Finland | Bethlehem Steel, California Steel Industries, Geneva Steel, Gulf States Steel, Inland Steel Industries, Lukens Steel, Nextech, Sharon Steel, Theis Precision Steel, Thompson Steel, U.S. Steel, United Steelworkers of America.
A-428-816 | 731-TA-578 | Cut-to-length carbon steel plate/Germany | Bethlehem Steel, California Steel Industries, Geneva Steel, Gulf States Steel, Inland Steel Industries, Lukens Steel, Nextech, Sharon Steel, Theis Precision Steel, Thompson Steel, U.S. Steel, United Steelworkers of America.
A-201-809 | 731-TA-582 | Cut-to-length carbon steel plate/Mexico | Bethlehem Steel, California Steel Industries, Geneva Steel, Gulf States Steel, Inland Steel Industries, Lukens Steel, Nextech, Sharon Steel, Theis Precision Steel, Thompson Steel, U.S. Steel, United Steelworkers of America.
A-455-802 | 731-TA-583 | Cut-to-length carbon steel plate/Poland | Bethlehem Steel, California Steel Industries, Geneva Steel, Gulf States Steel, Inland Steel Industries, Lukens Steel, Nextech, Sharon Steel, Theis Precision Steel, Thompson Steel, U.S. Steel, United Steelworkers of America.
A-485-803 | 731-TA-584 | Cut-to-length carbon steel plate/Romania | Bethlehem Steel, California Steel Industries, Geneva Steel, Gulf States Steel, Inland Steel Industries, Lukens Steel, Nextech, Sharon Steel, Theis Precision Steel, Thompson Steel, U.S. Steel, United Steelworkers of America.
A-469-803 | 731-TA-585 | Cut-to-length carbon steel plate/Spain | Bethlehem Steel, California Steel Industries, Geneva Steel, Gulf States Steel, Inland Steel Industries, Lukens Steel, Nextech, Sharon Steel, Theis Precision Steel, Thompson Steel, U.S. Steel, United Steelworkers of America.
A-401-805 | 731-TA-586 | Cut-to-length carbon steel plate/Sweden | Bethlehem Steel, California Steel Industries, Geneva Steel, Gulf States Steel, Inland Steel Industries, Lukens Steel, Nextech, Sharon Steel, Theis Precision Steel, Thompson Steel, U.S. Steel, United Steelworkers of America.
A-412-814 | 731-TA-587 | Cut-to-length carbon steel plate/United Kingdom | Bethlehem Steel, California Steel Industries, Geneva Steel, Gulf States Steel, Inland Steel Industries, Lukens Steel, Nextech, Sharon Steel, Theis Precision Steel, Thompson Steel, U.S. Steel, United Steelworkers of America.
C-401-401 | 701-TA-231 | Cold-rolled carbon steel flat products/Sweden | Bethlehem Steel, Chaparral, U.S. Steel.
C-428-817 | 701-TA-340 | Cold-rolled carbon steel flat products/Germany | Armco Steel, Bethlehem Steel, California Steel Industries, Gulf States Steel, Inland Steel Industries, LTV Steel, National Steel, Nextech, Sharon Steel, Theis Precision Steel, Thompson Steel, U.S. Steel, WCI Steel, United Steelworkers of America.
C-580-818 | 701-TA-342 | Cold-rolled carbon steel flat products/Korea | Armco Steel, Bethlehem Steel, California Steel Industries, Gulf States Steel, Inland Steel Industries, LTV Steel, National Steel, Nextech, Sharon Steel, Theis Precision Steel, Thompson Steel, U.S. Steel, WCI Steel, United Steelworkers of America.
A-428-814 | 731-TA-604 | Cold-rolled carbon steel flat products/Germany | Armco Steel, Bethlehem Steel, California Steel Industries, Gulf States Steel, Inland Steel Industries, LTV Steel, National Steel, Nextech, Sharon Steel, Theis Precision Steel, Thompson Steel, U.S. Steel, WCI Steel, United Steelworkers of America.
A-580-815 | 731-TA-607 | Cold-rolled carbon steel flat products/Korea | Armco Steel, Bethlehem Steel, California Steel Industries, Gulf States Steel, Inland Steel Industries, LTV Steel, National Steel, Nextech, Sharon Steel, Theis Precision Steel, Thompson Steel, U.S. Steel, WCI Steel, United Steelworkers of America.
A-421-804 | 731-TA-608 | Cold-rolled carbon steel flat products/Netherlands | Armco Steel, Bethlehem Steel, California Steel Industries, Gulf States Steel, Inland Steel Industries, LTV Steel, National Steel, Nextech, Sharon Steel, Theis Precision Steel, Thompson Steel, U.S. Steel, WCI Steel, United Steelworkers of America.
C-427-810 | 701-TA-348 | Corrosion-resistant carbon steel flat products/France | Armco Steel, Bethlehem Steel, California Steel Industries, Geneva Steel, Gulf States Steel, Inland Steel Industries, LTV Steel, Lukens Steel, National Steel, Nextech, Sharon Steel, Theis Precision Steel, Thompson Steel, U.S. Steel, WCI Steel, United Steelworkers of America.
C-428-817 | 701-TA-349 | Corrosion-resistant carbon steel flat products/Germany | Armco Steel, Bethlehem Steel, California Steel Industries, Geneva Steel, Gulf States Steel, Inland Steel Industries, LTV Steel, Lukens Steel, National Steel, Nextech, Sharon Steel, Theis Precision Steel, Thompson Steel, U.S. Steel, WCI Steel, United Steelworkers of America.
C-580-818 | 701-TA-350 | Corrosion-resistant carbon steel flat | Armco Steel, Bethlehem Steel, products/Korea California Steel Industries, Geneva Steel, Gulf States Steel, Inland Steel Industries, LTV Steel, Lukens Steel, National Steel, Nextech, Sharon Steel, Theis Precision Steel, Thompson Steel, U.S. Steel, WCI Steel, United Steelworkers of America.
A-602-803 | 731-TA-612 | Corrosion-resistant carbon steel flat products/Australia | Armco Steel, Bethlehem Steel, California Steel Industries, Geneva Steel, Gulf States Steel, Inland Steel Industries, LTV Steel, Lukens Steel, National Steel, Nextech, Sharon Steel, Theis Precision Steel, Thompson Steel, U.S. Steel, WCI Steel, United Steelworkers of America.
A-122-822 | 731-TA-614 | Corrosion-resistant carbon steel flat products/Canada | Armco Steel, Bethlehem Steel, California Steel Industries, Geneva Steel, Gulf States Steel, Inland Steel Industries, LTV Steel, Lukens Steel, National Steel, Nextech, Sharon Steel, Theis Precision Steel, Thompson Steel, U.S. Steel, WCI Steel, United Steelworkers of America.
A-427-808 | 731-TA-615 | Corrosion-resistant carbon steel flat products/France | Armco Steel, Bethlehem Steel, California Steel Industries, Geneva Steel, Gulf States Steel, Inland Steel Industries, LTV Steel, Lukens Steel, National Steel, Nextech, Sharon Steel, Theis Precision Steel, Thompson Steel, U.S. Steel, WCI Steel, United Steelworkers of America.
A-428-815 | 731-TA-616 | Corrosion-resistant carbon steel flat products/Germany | Armco Steel, Bethlehem Steel, California Steel Industries, Geneva Steel, Gulf States Steel, Inland Steel Industries LTV Steel, Lukens Steel, National Steel, Nextech, Sharon Steel, Theis Precision Steel, Thompson Steel, U.S. Steel, WCI Steel, United Steelworkers of America.
A-588-826 | 731-TA-617 | Corrosion-resistant carbon steel flat products/Japan | Bethlehem Steel, California Steel Industries, Geneva Steel, Gulf States Steel, Lukens Steel, Nextech, Sharon Steel, Theis Precision Steel, Thompson Steel, U.S. Steel, WCI Steel, United Steelworkers of America.
A-580-816 | 731-TA-618 | Corrosion-resistant carbon steel flat products/Korea | Armco Steel, Bethlehem Steel, California Steel Industries, Geneva Steel, Gulf States Steel, Inland Steel Industries, LTV Steel, Lukens Steel, National Steel, Nextech, Sharon Steel, Theis Precision Steel, Thompson Steel, U.S. Steel, WCI Steel, United Steelworkers of America.
A-570-815 | 731-TA-538 | Sulfanilic acid/China | R-M Industries.
A-533-806 | 731-TA-561 | Sulfanilic acid/India | R-M Industries.
C-533-807 | 701-TA-318 | Sulfanilic acid/India | R-M Industries.
A-570-806 | 731-TA-472 | Silicon metal/China | American Alloys, Elkem Metals, Globe Metallurgical, Silicon Metaltech, SiMETCO, SKW Alloys, International Union of Electronics, Electrical, Machine and Furniture Workers (Local 693), Oil, Chemical and Atomic Workers (Local 389), Textile Processors, Service Trades, Health Care Professional and Technical Employees (Local 60), United Steelworkers of America (Locals 5171, 8538, and 12646).
A-351-806 | 731-TA-471 | Silicon metal/Brazil | American Alloys, Globe Metallurgical, Silicon Metaltech, SiMETCO, International Union of Electronics, Electrical, Machine and Furniture Workers (Local 693), Oil, Chemical and Atomic Workers (Local 389), Textile Processors, Service Trades, Health Care Professional and Technical Employees (Local 60), United Steelworkers of America (Locals 5171, 8538, and 12646).
A-357-804 | 731-TA-470 | Silicon metal/Argentina | American Alloys, Elkem Metals, Globe Metallurgical, Silicon Metaltech, SiMETCO, SKW Alloys, International Union of Electronics, Electrical, Machine and Furniture Workers (Local 693), Oil, Chemical and Atomic Workers (Local 389), Textile Processors, Service Trades, Health Care Professional and Technical Employees (Local 60), United Steelworkers of America (Locals 5171, 8538, and 12646).
A-570-819 | 731-TA-567 | Ferrosilicon/China | AIMCOR, Alabama Silicon, American Alloys, Globe Metallurgical, Silicon Metaltech, Oil, Chemical and Atomic Workers (Local 389), United Autoworkers of America (Local 523), United Steelworkers of America (Locals 2528, 3081, 5171, and 12646).
A-843-804 | 731-TA-566 | Ferrosilicon/Kazakhstan | AIMCOR, Alabama Silicon, American Alloys, Globe Metallurgical, Silicon Metaltech, Oil, Chemical and Atomic Workers (Local 389), United Autoworkers of America (Local 523), United Steelworkers of America (Locals 2528, 3081, 5171, and 12646).
A-823-804 | 731-TA-569 | Ferrosilicon/Ukraine | AIMCOR, Alabama Silicon, American Alloys, Globe Metallurgical, Silicon Metaltech, Oil, Chemical and Atomic Workers (Local 389), United Autoworkers of America (Local 523), United Steelworkers of America (Locals 2528, 3081, 5171, and 12646).
C-307-808 | 303-TA-23 | Ferrosilicon/Venezuela | AIMCOR, Alabama Silicon, American Alloys, Globe Metallurgical, Silicon Metaltech, Oil, Chemical and Atomic Workers (Local 389), United Autoworkers of America (Local 523), United Steelworkers of America (Locals 2528, 3081, 5171, and 12646).
A-821-804 | 731-TA-568 | Ferrosilicon/Russia | AIMCOR, Alabama Silicon, American Alloys, Globe Metallurgical, Silicon Metaltech, Oil, Chemical and Atomic Workers (Local 389), United Autoworkers of America (Local 523), United Steelworkers of America (Locals 2528, 3081, 5171, and 12646).
A-307-807 | 731-TA-570 | Ferrosilicon/Venezuela | AIMCOR, Alabama Silicon, American Alloys, Globe Metallurgical, Silicon Metaltech, Oil, Chemical and Atomic Workers (Local 389), United Autoworkers of America (Local 523), United Steelworkers of America (Locals 2528, 3081, 5171, and 12646).
A-351-820 | 731-TA-641 | Ferrosilicon/Brazil | AIMCOR, Alabama Silicon, American Alloys, Globe Metallurgical, Silicon Metaltech, Oil, Chemical and Atomic Workers (Local 389), United Autoworkers of America (Local 523). United Steelworkers of America (Locals 2528, 3081, 5171, and 12646).
A-823-805 | 731-TA-673 | Silicomanganese/Ukraine | Elkem Metals, Oil, Chemical and Atomic Workers (Local 3-639).
A-351-824 | 731-TA-671 | Silicomanganese/Brazil | Elkem Metals, Oil, Chemical and Atomic Workers (Local 3-639).
A-570-828 | 731-TA-672 | Silicomanganese/China | Elkem Metals, Oil, Chemical and Atomic Workers (Local 3-639).
A-583-820 | 731-TA-625 | Helical spring lock washers/Taiwan | Illinois Tool Works.
A-570-822 | 731-TA-624 | Helical spring lock washers/China | Illinois Tool Works.
A-533-809 | 731-TA-639 | Forged stainless steel flanges/India | Gerlin, Ideal Forging, Maass Flange, Markovitz Enterprises.
A-583-821 | 731-TA-640 | Forged stainless steel flanges/Taiwan | Gerlin, Ideal Forging, Maass Flange, Markovitz Enterprises.
A-421-805 | 731-TA-652 | Aramid fiber/Netherlands | E.I. du Pont de Nemours.
C-475-812 | 701-TA-355 | Grain-oriented silicon electrical steel/Italy | Allegheny Ludlum, Armco Steel, Butler Armco Independent Union, United Steelworkers of America, Zanesville Armco Independent Union.
A-588-831 | 731-TA-660 | Grain-oriented silicon electrical steel/Japan | Allegheny Ludlum, Armco Steel, United Steelworkers of America.
A-475-811 | 731-TA-659 | Grain-oriented silicon electrical steel/Italy | Allegheny Ludlum, Armco Steel, Butler Armco Independent Union, United Steelworkers of America, Zanesville Armco Independent Union.
A-570-831 | 731-TA-683 | Fresh garlic/China | A&D Christopher Ranch, Belridge Packing, Colusa Produce, Denice & Filice Packing, El Camino Packing, The Garlic Company, Vessey and Company.
A-570-826 | 731-TA-663 | Paper clips/China | ACCO USA, Labelon/Noesting, TRICO Manufacturing.
A-570-827 | 731-TA-669 | Cased pencils/China | Blackfeet Indian Writing Instrument, Dixon-Ticonderoga, Empire Berol, Faber-Castell, General Pencil, J.R. Moon Pencil, Musgrave Pen & Pencil, Panda, Writing Instrument Manufacturers Association, Pencil Section.
A-570-830 | 731-TA-677 | Coumarin/China | Rhone-Poulenc.
A-351-825 | 731-TA-678 | Stainless steel bar/Brazil | AL Tech Specialty Steel, Carpenter Technology, Crucible Specialty Metals, Electralloy, Republic Engineered Steels, Slater Steels, Talley Metals Technology, United Steelworkers of America.
A-533-810 | 731-TA-679 | Stainless steel bar/India | AL Tech Specialty Steel, Carpenter Technology, Crucible Specialty Metals, Electralloy, Republic Engineered Steels, Slater Steels, Talley Metals Technology, United Steelworkers of America.
A-588-833 | 731-TA-681 | Stainless steel bar/Japan | AL Tech Specialty Steel, Carpenter Technology, Crucible Specialty Metals, Electralloy, Republic Engineered Steels, Slater Steels, Talley Metals Technology, United Steelworkers of America.
A-469-805 | 731-TA-682 | Stainless steel bar/Spain | AL Tech Specialty Steel, Carpenter Technology, Crucible Specialty Metals, Electralloy, Republic Engineered Steels, Slater Steels, Talley Metals Technology, United Steelworkers of America.
A-570-836 | 731-TA-718 | Glycine/China | Chattem, Hampshire Chemical.
A-570-832 | 731-TA-696 | Pure magnesium/China | Dow Chemical, Magnesium Corporation of America, International Union of Operating Engineers (Local 564), United Steelworkers of America (Local 8319).
A-570-835 | 731-TA-703 | Furfuryl alcohol/China | QO Chemicals.
A-549-812 | 731-TA-705 | Furfuryl alcohol/Thailand | QO Chemicals.
A-821-807 | 731-TA-702 | Ferrovanadium and nitrided vanadium/Russia | Shieldalloy Metallurgical.
A-549-813 | 731-TA-706 | Canned pineapple/Thailand | Maui Pineapple, International Longshoreman's and, Warehouseman's Union.
A-357-809 | 731-TA-707 | Seamless pipe/Argentina | Koppel Steel, Quanex, Timken.
A-351-826 | 731-TA-708 | Seamless pipe/Brazil | Koppel Steel, Quanex, Timken.
A-428-820 | 731-TA-709 | Seamless pipe/Germany | Koppel Steel, Quanex, Timken.
A-475-814 | 731-TA-710 | Seamless pipe/Italy | Koppel Steel, Quanex, Timken.
C-475-815 | 701-TA-362 | Seamless pipe/Italy | Koppel Steel, Quanex, Timken.
C-475-817 | 701-TA-364 | Oil country tubular goods/Italy | IPSCO, Koppel Steel, Lone Star Steel, Maverick Tube, Newport Steel, North Star Steel, U.S. Steel, USS/Kobe .
A-357-810 | 731-TA-711 | Oil country tubular goods/Argentina | IPSCO Koppel Steel, Lone Star Steel, Maverick Tube, Newport Steel, North Star Steel, U.S. Steel, USS/Kobe.
A-475-816 | 731-TA-713 | Oil country tubular goods/Italy | Bellville Tube, IPSCO, Koppel Steel, Lone Star Steel, Maverick Tube, Newport Steel, North Star Steel, U.S. Steel, USS/Kobe.
A-588-835 | 731-TA-714 | Oil country tubular goods/Japan | IPSCO, Koppel Steel, Maverick Tube, Newport Steel, U.S. Steel.
A-580-825 | 731-TA-715 | Oil country tubular goods/Korea | Bellville Tube, IPSCO, Koppel Steel, Lone Star Steel, Maverick Tube, Newport Steel, North Star Steel, U.S. Steel, USS/Kobe.
A-201-817 | 731-TA-716 | Oil country tubular goods/Mexico | IPSCO, Koppel Steel, Maverick Tube, Newport Steel, North Star Steel, U.S. Steel, USS/Kobe.
A-570-840 | 731-TA-724 | Manganese metal/China | Elkem Metals, Kerr-McGee.
A-570-842 | 731-TA-726 | Polyvinyl alcohol/China | Air Products and Chemicals.
A-588-836 | 731-TA-727 | Polyvinyl alcohol/Japan | Air Products and Chemicals.
A-583-824 | 731-TA-729 | Polyvinyl alcohol/Taiwan | Air Products and Chemicals.
A-588-838 | 731-TA-739 | Clad steel plate/Japan | Lukens Steel.
C-475-819 | 701-TA-365 | Pasta/Italy | Borden, Gooch Foods, Hershey Foods.
C-489-806 | 701-TA-366 | Pasta/Turkey | Borden, Gooch Foods, Hershey Foods.
A-475-818 | 731-TA-734 | Pasta/Italy | Borden, Gooch Foods, Hershey Foods.
A-489-805 | 731-TA-735 | Pasta/Turkey | Borden, Gooch Foods, Hershey Foods.
A-428-821 | 731-TA-736 | Large newspaper printing presses/Germany | Rockwell Graphics Systems
A-588-837 | 731-TA-737 | Large newspaper printing presses/Japan | Rockwell Graphics Systems.
A-201-820 | 731-TA-747 | Fresh tomatoes/Mexico | Accomack County Farm Bureau, Ad Hoc Group of Florida, California, Georgia, Pennsylvania, South Carolina, Tennessee, and Virginia Tomato Growers, Florida Farm Bureau Federation, Florida Fruit and Vegetable Association, Florida Tomato Exchange, Florida Tomato Growers Exchange, Gadsden County Tomato Growers Association, South Carolina Tomato.
A-588-839 | 731-TA-740 | Sodium azide/Japan | American Azide.
A-570-844 | 731-TA-741 | Melamine institutional dinnerware/China | Carlisle Food Service Products, Lexington United, Plastics Manufacturing.
A-560-801 | 731-TA-742 | Melamine institutional dinnerware/Indonesia | Carlisle Food Service Products, Lexington United, Plastics Manufacturing.
A-583-825 | 731-TA-742 | Melamine institutional dinnerware/Taiwan | Carlisle Food Service Products, Lexington United, Plastics Manufacturing.
A-570-846 | 731-TA-744 | Brake rotors/China | Brake Parts, Kelsey Hayes, Kinetic Parts Manufacturing, Iroquois Tool Systems, Overseas Auto Parts, Wagner Brake.
A-489-807 | 731-TA-745 | Steel concrete reinforcing bar/Turkey | AmeriSteel, New Jersey Steel.
A-588-840 | 731-TA-748 | Gas turbo-compressor systems/Japan | Demag Delaval, Dresser-Rand, United Steelworkers of America.
A-570-847 | 731-TA-749 | Persulfates/China | FMC.
A-570-848 | 731-TA-752 | Crawfish tail meat/China | Crawfish Processors Alliance.
A-588-841 | 731-TA-750 | Vector supercomputers/Japan | Cray Research.
A-570-849 | 731-TA-753 | Cut-to-length carbon steel plate/China | Bethlehem Steel, Geneva Steel, Gulf States Steel, U.S. Steel, United Steelworkers of America.
A-821-808 | 731-TA-754 | Cut-to-length carbon steel plate/Russia | Bethlehem Steel, Geneva Steel, Gulf States Steel, U.S. Steel, United Steelworkers of America.
A-791-804 | 731-TA-755 | Cut-to-length carbon steel plate/South Africa | Bethlehem Steel, Geneva Steel, Gulf States Steel, U.S. Steel, United Steelworkers of America.
A-823-808 | 731-TA-756 | Cut-to-length carbon steel plate/Ukraine | Bethlehem Steel, Geneva Steel, Gulf States Steel, U.S. Steel, United Steelworkers of America.
A-570-850 | 731-TA-757 | Collated roofing nails/China | Illinois Tool Works, International Staple and Machines, Stanley-Bostitch.
A-583-826 | 731-TA-759 | Collated roofing nails/Taiwan | Illinois Tool Works, International Staple and Machines, Stanley-Bostitch.
A-583-827 | 731-TA-762 | SRAMs/Taiwan | Micron Technology.
A-337-803 | 731-TA-768 | Fresh Atlantic salmon/Chile | Atlantic Salmon of Maine, Cooke Aquaculture US, DE Salmon, Global Aqua USA, Island Aquaculture, Maine Coast Nordic, Scan Am Fish Farms, Treats Island Fisheries, Trumpet Islands Salmon Farm.
C-475-821 | 701-TA-373 | Stainless steel wire rod/Italy | AL Tech Specialty Steel, Carpenter Technology, Republic Engineered Steels, Talley Metals Technology, United Steelworkers of America.
A-475-820 | 731-TA-770 | Stainless steel wire rod/Italy | AL Tech Specialty Steel, Carpenter Technology, Republic Engineered Steels, Talley Metals Technology, United Steelworkers of America.
A-588-843 | 731-TA-771 | Stainless steel wire rod/Japan | AL Tech Specialty Steel, Carpenter Technology, Republic Engineered Steels, Talley Metals Technology, United Steelworkers of America.
A-580-829 | 731-TA-772 | Stainless steel wire rod/Korea | AL Tech Specialty Steel, Carpenter Technology, Republic Engineered Steels, Talley Metals Technology, United Steelworkers of America.
A-469-807 | 731-TA-773 | Stainless steel wire rod/Spain | AL Tech Specialty Steel, Carpenter Technology, Republic Engineered Steels, Talley Metals Technology, United Steelworkers of America.
A-401-806 | 731-TA-774 | Stainless steel wire rod/Sweden | AL Tech Specialty Steel, Carpenter Technology, Republic Engineered Steels, Talley Metals Technology, United Steelworkers of America.
A-583-828 | 731-TA-775 | Stainless steel wire rod/Taiwan | AL Tech Specialty Steel, Carpenter Technology, Republic Engineered Steels, Talley Metals Technology, United Steelworkers of America.
A-337-804 | 731-TA-776 | Preserved mushrooms/Chile | L.K. Bowman, Modern Mushroom Farms, Monterey Mushrooms, Mount Laurel Canning, Mushroom Canning, Southwood Farms, Sunny Dell Foods, United Canning.
A-570-851 | 731-TA-777 | Preserved mushrooms/China | L.K. Bowman, Modern Mushroom Farms, Monterey Mushrooms, Mount Laurel Canning, Mushroom Canning, Southwood Farms, Sunny Dell Foods, United Canning.
A-533-813 | 731-TA-778 | Preserved mushrooms/India | L.K. Bowman, Modern Mushroom Farms, Monterey Mushrooms, Mount Laurel Canning, Mushroom Canning, Southwood Farms, Sunny Dell Foods, United Canning.
A-560-802 | 731-TA-779 | Preserved mushrooms/Indonesia | L.K. Bowman, Modern Mushroom Farms, Monterey Mushrooms, Mount Laurel Canning, Mushroom Canning, Southwood Farms, Sunny Dell Foods, United Canning.
C-423-809 | 701-TA-376 | Stainless steel plate in coils/Belgium | Armco Steel, Lukens Steel, United Steelworkers of America.
C-475-823 | 701-TA-377 | Stainless steel plate in coils/Italy | Armco Steel, J&L Specialty Steel, Lukens Steel, United Steelworkers of America.
C-791-806 | 701-TA-379 | Stainless steel plate in coils/South Africa | Armco Steel, J&L Specialty Steel, Lukens Steel, United Steelworkers of America.
A-423-808 | 731-TA-788 | Stainless steel plate in coils/Belgium | Armco Steel, Lukens Steel, North American Stainless, United Steelworkers of America.
A-122-830 | 731-TA-789 | Stainless steel plate in coils/Canada | Armco Steel, J&L Specialty Steel, Lukens Steel, North American Stainless.
A-475-822 | 731-TA-790 | Stainless steel plate in coils/Italy | Armco Steel, J&L Specialty Steel, Lukens Steel, United Steelworkers of America.
A-580-831 | 731-TA-791 | Stainless steel plate in coils/Korea | Armco Steel, J&L Specialty Steel, Lukens Steel, North American Stainless, United Steelworkers of America.
A-791-805 | 731-TA-792 | Stainless steel plate in coils/South Africa | Armco Steel, J&L Specialty Steel, Lukens Steel, North American Stainless, United Steelworkers of America.
A-583-830 | 731-TA-793 | Stainless steel plate in coils/Taiwan | Armco Steel, J&L Specialty Steel, Lukens Steel, North American Stainless, United Steelworkers of America.
A-560-803 | 731-TA-787 | Extruded rubber thread/Indonesia | North American Rubber Thread.
A-588-846 | 731-TA-807 | Hot-rolled carbon steel flat products/Japan | Bethlehem Steel, California Steel Industries, Gallatin Steel, Geneva Steel, Gulf States Steel, IPSCO, Ispat/Inland, LTV Steel, Steel Dynamics, U.S. Steel, Weirton Steel, Independent Steelworkers, United Steelworkers of America.
C-351-829 | 701-TA-384 | Hot-rolled carbon steel flat products/Brazil | Bethlehem Steel, California Steel Industries, Gallatin Steel, Geneva Steel, Gulf States Steel, IPSCO, Ispat/Inland, LTV Steel, National Steel, Steel Dynamics, U.S. Steel, Weirton Steel, Independent Steelworkers, United Steelworkers of America.
A-351-828 | 731-TA-806 | Hot-rolled carbon steel flat products/Brazil | Bethlehem Steel, California Steel Industries, Gallatin Steel, Geneva Steel, Gulf States Steel, IPSCO, Ispat/Inland, LTV Steel, National Steel, Steel Dynamics, U.S. Steel, Weirton Steel, Independent Steelworkers, United Steelworkers of America.
A-821-809 | 731-TA-808 | Hot-rolled carbon steel flat products/Russia | Bethlehem Steel, California Steel Industries, Gallatin Steel, Geneva Steel, Gulf States Steel, IPSCO, Ispat/Inland, LTV Steel, National Steel, Steel Dynamics, U.S. Steel, Weirton Steel, Independent Steelworkers, United Steelworkers of America.
A-427-814 | 731-TA-797 | Stainless steel sheet and strip/France | Allegheny Ludlum, Armco Steel, Bethlehem Steel, Butler Armco Independent Union, United Steelworkers of America, Zanesville Armco Independent Organization.
A-428-825 | 731-TA-798 | Stainless steel sheet and strip/Germany | Allegheny Ludlum, Armco Steel, Germany Bethlehem Steel, J&L Specialty Steel, Butler Armco Independent Union, United Steelworkers of America, Zanesville Armco Independent Organization.
A-475-824 | 731-TA-799 | Stainless steel sheet and strip/Italy | Allegheny Ludlum, Armco Steel, Bethlehem Steel, J&L Specialty Steel, Butler Armco Independent Union, United Steelworkers of America, Zanesville Armco Independent Organization.
A-588-845 | 731-TA-800 | Stainless steel sheet and strip/Japan | Allegheny Ludlum, Armco Steel, Bethlehem Steel, J&L Specialty Steel, Butler Armco Independent Union, United Steelworkers of America, Zanesville Armco Independent Organization.
A-580-834 | 731-TA-801 | Stainless steel sheet and strip/Korea | Allegheny Ludlum, Armco Steel, Bethlehem Steel, J&L Specialty Steel, Butler Armco Independent Union, United Steelworkers of America, Zanesville Armco Independent Organization.
A-201-822 | 731-TA-802 | Stainless steel sheet and strip/Mexico | Allegheny Ludlum, Bethlehem Steel, J&L Specialty Steel, United Steelworkers of America.
A-583-831 | 731-TA-803 | Stainless steel sheet and strip/Taiwan | Allegheny Ludlum, Armco Steel, Bethlehem Steel, J&L Specialty Steel, Butler Armco Independent Union, United Steelworkers of America, Zanesville Armco Independent Organization.
A-412-818 | 731-TA-804 | Stainless steel sheet and strip/United Kingdom | Allegheny Ludlum, Armco Steel, Bethlehem Steel, J&L Specialty Steel, Butler Armco Independent Union, United Steelworkers of America, Zanesville Armco Independent Organization.
C-427-815 | 701-TA-380 | Stainless steel sheet and strip/France | Allegheny Ludlum, Armco Steel, Bethlehem Steel, Butler Armco Independent Union, United Steelworkers of America, Zanesville Armco Independent Organization.
C-475-825 | 701-TA-381 | Stainless steel sheet and strip/Italy | Allegheny Ludlum, Armco Steel, Bethlehem Steel, J&L Specialty Steel, Butler Armco Independent Union, United Steelworkers of America, Zanesville Armco Independent Organization.
C-580-835 | 701-TA-382 | Stainless steel sheet and strip/Korea | Allegheny Ludlum, Armco Steel, Bethlehem Steel, J&L Specialty Steel, Butler Armco Independent Union, United Steelworkers of America, Zanesville Armco Independent Organization.
A-570-852 | 731-TA-814 | Creatine monohydrate/China | Pfanstiehl Laboratories.
C-427-817 | 701-TA-387 | Cut-to-length carbon steel plate/France | Bethlehem Steel, Geneva Steel, IPSCO Steel, U.S. Steel, United Steelworkers of America.
C-533-818 | 701-TA-388 | Cut-to-length carbon steel plate/India | Bethlehem Steel, Geneva Steel, Gulf States Steel, IPSCO Steel, Tuscaloosa Steel, U.S. Steel, United Steelworkers of America.
C-560-806 | 701-TA-389 | Cut-to-length carbon steel plate/Indonesia | Bethlehem Steel, Geneva Steel, Gulf States Steel, IPSCO Steel, Tuscaloosa Steel, U.S. Steel, United Steelworkers of America.
C-475-827 | 701-TA-390 | Cut-to-length carbon steel plate/Italy | Bethlehem Steel, Geneva Steel, Gulf States Steel, IPSCO Steel, U.S. Steel, United Steelworkers of America.
C-580-837 | 701-TA-391 | Cut-to-length carbon steel plate/Korea | Bethlehem Steel, Geneva Steel, Gulf States Steel, IPSCO Steel, Tuscaloosa Steel, U.S. Steel, United Steelworkers of America.
A-427-816 | 731-TA-816 | Cut-to-length carbon steel plate/France | Bethlehem Steel, Geneva Steel, IPSCO Steel, U.S. Steel, United Steelworkers of America.
A-533-817 | 731-TA-817 | Cut-to-length carbon steel plate/India | Bethlehem Steel, Geneva Steel, Gulf States Steel, IPSCO Steel, Tuscaloosa Steel, U.S. Steel, United Steelworkers of America.
A-560-805 | 731-TA-818 | Cut-to-length carbon steel plate/Indonesia | Bethlehem Steel, Geneva Steel, Gulf States Steel, IPSCO Steel, Tuscaloosa Steel, U.S. Steel, United Steelworkers of America.
A-475-826 | 731-TA-819 | Cut-to-length carbon steel plate/Italy | Bethlehem Steel, Geneva Steel, Gulf States Steel, IPSCO Steel, U.S. Steel, United Steelworkers of America.
A-588-847 | 731-TA-820 | Cut-to-length carbon steel plate/Japan | Bethlehem Steel, Geneva Steel, Gulf States Steel, IPSCO Steel, Tuscaloosa Steel, U.S. Steel, United Steelworkers of America.
A-580-836 | 731-TA-821 | Cut-to-length carbon steel plate/Korea | Bethlehem Steel, Geneva Steel, Gulf States Steel, IPSCO Steel, Tuscaloosa Steel, U.S. Steel, United Steelworkers of America.
A-507-502 | 731-TA-287 | Raw in-shell pistachios/Iran | Blackwell Land, California Pistachio Orchard, T.M. Duche Nut, Keenan Farms, Kern Pistachio Hulling & Drying, Los Ranchos de Poco Pedro, Pistachio Producers of California.
C-507-501 | None | Raw in-shell pistachios/Iran | No case at the Commission; no service list at Commerce.
C-507-601 | None | Roasted in-shell pistachios/Iran | No case at the Commission; no service list at Commerce.
A-821-811 | 731-TA-856 | Ammonium nitrate/Russia | Air Products and Chemicals, Mississippi Chemical, El Dorado Chemical, Nitram, LaRoche, Wil-Gro Fertilizer.
A-580-839 | 731-TA-825 | Polyester staple fiber/Korea | E.I. du Pont de Nemours, Arteva Specialties S.a.r.l., Wellman, Intercontinental Polymers.
A-583-833 | 731-TA-826 | Polyester staple fiber/Taiwan | Arteva Specialties S.a.r.l., Wellman, Intercontinental Polymers.
A-570-855 | 731-TA-841 | Non-frozen apple juice concentrate/China | Coloma Frozen Foods, Green Valley Apples of California, Knouse Foods Coop, Mason County Fruit Packers Coop, Tree Top.
A-588-852 | 731-TA-853 | Structural steel beams/Japan | Northwestern Steel and Wire, Nucor-Yamato Steel, TXI-Chaparral Steel, United Steelworkers of America.
C-580-842 | 701-TA-401 | Structural steel beams/Korea | Northwestern Steel and Wire, Nucor-Yamato Steel, TXI-Chaparral Steel, United Steelworkers of America.
A-580-841 | 731-TA-854 | Structural steel beams/Korea | Northwestern Steel and Wire, Nucor-Yamato Steel, TXI-Chaparral Steel, United Steelworkers of America.
A-570-856 | 731-TA-851 | Synthetic indigo/China | Buffalo Color, United Steelworkers of America.
A-588-850 | 731-TA-847 | Large-diameter carbon steel seamless pipe/Japan | Timken, U.S. Steel, USS/Kobe, United Steelworkers of America.
A-588-851 | 731-TA-847 | Small-diameter carbon steel seamless pipe/Japan | Koppel Steel, Sharon Tube, Timken, U.S. Steel, USS/Kobe, Vision Metals' Gulf States Tube, United Steelworkers of America.
A-791-808 | 731-TA-850 | Small-diameter carbon steel seamless pipe/South Africa | Koppel Steel, Sharon Tube, Timken, U.S. Steel, USS/Kobe, Vision Metals' Gulf States Tube, United Steelworkers of America.
A-485-805 | 731-TA-849 | Small-diameter carbon steel seamless pipe/Romania | Koppel Steel, Sharon Tube, Timken, U.S. Steel, USS/Kobe, Vision Metals' Gulf States Tube, United Steelworkers of America.
A-201-827 | 731-TA-848 | Large-diameter carbon steel seamless pipe/Mexico | Timken, U.S. Steel, USS/Kobe, United Steelworkers of America.
A-851-802 | 731-TA-846 | Small-diameter carbon steel seamless pipe/Czech Republic | Koppel Steel, Sharon Tube, Timken, U.S. Steel, USS/Kobe, Vision Metals' Gulf States Tube, United Steelworkers of America.
A-570-853 | 731-TA-828 | Aspirin/China | Rhodia.
A-580-812 | 731-TA-556 | DRAMs of 1 megabit and above/Korea | Micron Technology, NEC Electronics, Texas Instruments.
A-475-828 | 731-TA-865 | Stainless steel butt-weld pipe fittings/Italy | Alloy Piping Products, Markovitz Enterprises, Gerlin, Taylor Forge Stainless.
A-557-809 | 731-TA-866 | Stainless steel butt-weld pipe fittings/Malaysia | Alloy Piping Products, Markovitz Enterprises, Gerlin, Taylor Forge Stainless.
A-565-801 | 731-TA-867 | Stainless steel butt-weld pipe fittings/Philippines | Alloy Piping Products, Markovitz Enterprises,Gerlin, Taylor Forge Stainless.
A-588-854 | 731-TA-860 | Tin-mill products/Japan | Weirton Steel, Independent Steelworkers, United Steelworkers of America.
A-588-856 | 731-TA-888 | Stainless steel angle/Japan | Slater Steels, United Steelworkers of America.
A-580-846 | 731-TA-889 | Stainless steel angle/Korea | Slater Steels, United Steelworkers of America.
A-469-810 | 731-TA-890 | Stainless steel angle/Spain | Slater Steels, United Steelworkers of America.

Dated: July 31, 2001.
Stuart P. Seidel,
Assistant Commissioner, Office of Regulations and Rulings.

[FR Doc. 01-19477 Filed 8-2-01; 8:45 am]

BILLING CODE 4820-02-P